DEPARTMENT OF ENERGY

Federal Energy Regulatory Commission

[Docket No. CP06-168-000]

CenterPoint Energy Gas Transmission Company; Notice of Request under Blanket Authorization

May 16, 2006.

Take notice that on May 1, 2006, CenterPoint Energy Gas Transmission Company (CEGT), 1111 Louisiana Street, Houston, Texas 77002-5231, filed in Docket No. CP06-168-000 a request pursuant to sections 157.205 and 157.208(b) of the Commission's Regulations under the Natural Gas Act (18 CFR 157.205 and 157.208) for authorization to; abandon in place, replace and extend an existing supply lateral; construct a new compressor station; and increase the maximum allowable operating pressure (MAOP) of the line, located in Bienville and Webster Parishes, Louisiana, under the authorization issued in Docket Nos. CP82-384-000 and CP82-384-001 pursuant to Section 7 of the Natural Gas Act, all as more fully described in the request.

This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659.

Any questions concerning this request may be directed to Lawrence O. Thomas, Director of Rates and Regulatory, CenterPoint Energy Gas Transmission Company, P.O. Box 21734, Shreveport, Louisiana 71151, at (318) 429-2804.

CEGT proposes to construct approximately 17.5 miles of 12-inch pipeline to replace and extend Line FT-2 and to increase its MAOP from 450 psig to 1000 psig. CEGT indicates that the replacement and extension would require new and additional right-of-way. CEGT also proposes to abandon in place the existing 14-inch mechanically-coupled pipe.

CEGT, in addition, proposes to construct the Sibley Compressor Station that would consist of two (2) 1550 hp Waukesha L7044GSI compressor units and appurtenant facilities. CEGT states that all of the proposed construction activities would occur in Bienville and Webster Parishes, Louisiana.

CEGT contends that the proposed construction, abandonment, and increase in MAOP would have no adverse affect on any existing customers or service. It is said that the total estimated construction cost would be approximately $18.1 million, which would be financed with available funds and/or short-term borrowings.

Any person or the Commission's Staff may, within 45 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Comments, protests and interventions may be filed electronically via the Internet in lieu of paper. See, 18 CFR 385.2001(a)(1)(iii) and the instructions on the Commission's Web site under the “e-filing” link. The Commission strongly encourages electronic filings.

Magalie R. Salas,
Secretary.

[FR Doc. E6-7881 Filed 5-23-06; 8:45 am]

BILLING CODE 6717-01-P